AMERICAN BATTLE MONUMENTS COMMISSION

SES Performance Review Board

AGENCY: American Battle Monuments Commission.

ACTION: Notice.

SUMMARY: Notice is hereby given of the appointment of members of the ABMC Performance Review Board.

FOR FURTHER INFORMATION CONTACT: Theodore Gloukhoff, Director of Personnel and Administration, American Battle Monuments Commission, Courthouse Plaza II, Suite 500, 2300 Clarendon Boulevard, Arlington, Virginia, 22201-3367, Telephone Number: (703) 696-6908.

American Battle Monuments Commission SES Performance Review Board

Dr. Susan L. Duncan, Director, Human Resources, US Army Corps of Engineers;

Mr. Joseph Tyler, Chief, Program Management Division, US Army Corps of Engineers;

Mr. Wesley C. Miller, Director, Resource Management, US Army Corps of Engineers.

Theodore Gloukhoff,
Director, Personnel and Administration.

[FR Doc. E7-2853 Filed 2-16-07; 8:45 am]

BILLING CODE 6120-01-P